DEPARTMENT OF HOUSING AND URBAN DEVELOPMENT

[Docket No. FR-5386-N-05]

Privacy Act; Proposed Alteration to Existing Systems of Records, Single Family Mortgage Asset Recovery Technology (SMART/A80H)

AGENCY: Office of the Chief Information Officer, HUD.

ACTION: Modification to existing Privacy Act System of Records Notice (SORN).

SUMMARY: The Department proposes to alter an existing Privacy Act SORN subject to the Privacy Act of 1974 (5 U.S.C. 552a), as amended. The alterations to the existing records system is to capture a new routine use permitting the disclosure of records to its Credit Alert Interactive Verification Reporting System (CAIVRS) for the purpose of computer matching, and to identify an increase in the number of records maintained by the system. These alterations do not impact the scope, purpose, or record types for the records system. Additionally, this notice supersedes previous notice published at 73 FR 41105 on July 17, 2008.

DATES: Effective Date: This action shall be effective without further notice on July 19, 2010 unless comments are received that would result in a contrary determination.

Comments Due by: July 19, 2010.

ADDRESSES: Interested persons are invited to submit comments regarding this notice to the Rules Docket Clerk, Office of General Counsel, Room 10276, Department of Housing and Urban Development, 451 Seventh Street, SW., Washington, DC 20410. Communications should refer to the above docket number and title. A copy of each communication submitted will be available for public inspection and copying between 8 a.m. and 5 p.m. weekdays at the above address.

FOR FURTHER INFORMATION CONTACT: For Privacy Act Related questions contact Donna Robinson-Staton, Departmental Privacy Officer, Department of Housing and Urban Development, 451 Seventh Street, SW., Room 4178, Washington, DC 20410, Telephone Number (202) 402-8073. (This is not a toll-free number.) A telecommunication device for hearing- and speech-impaired individuals (TTY) is available at 1-800-877-8339 (Federal Information Relay Service).

SUPPLEMENTARY INFORMATION: Pursuant to the Privacy Act of 1974 (5 U.S.C. 552a), as amended, notice is given of an alteration to the Department's Office of Housing records system, SMART, HUD/HS-58. The SMART system is utilized for accounting level detail on forward and reverse mortgages; inclusive of its case-tracking ability; report generating capability; query functions; database management, analyzing, processing, and tracking of Federal Housing Administration (FHA) Insured and Secretary-held first, second and subordinate note and mortgage loan servicing functions.

Title 5 U.S.C. 552a(e)(4) and (11) provide that the public be afforded a 30-day period in which to comment on the modified system of records, and require published notice of the existence and character of the system of records.

The new system report was submitted to the Office of Management and Budget (OMB), the Committee on Homeland Security and Governmental Affairs of the Senate, and the House Committee on Oversight and Government Reform of the House of Representatives pursuant to paragraph 4c of Appendix 1 to OMB Circular No. A-130, “Federal Agency Responsibilities for Maintaining Records About Individuals,” July 25, 1994; 59 FR 37914.

Authority: 5 U.S.C. 552a 88 Stat. 1896; 342 U.S.C. 3535(d).

Dated: June 11, 2010.
Jerry E. Williams,
Chief Information Officer.

HUD/HS-59

SYSTEM NAME:

Single Family Mortgage Asset Recovery Technology (SMART).

SYSTEM LOCATION:

Morris-Griffin Corporation (Sub-Contractor site), Lanham, Maryland; C & L Service Corporation/Morris-Griffin Corporation (Contractor/Sub-Contractor site), Tulsa, Oklahoma (Access for HUD users is through a Citrix Server).

CATEGORIES OF INDIVIDUALS COVERED BY THE SYSTEM:

Mortgagors (Secretary-Held First, Second and Subordinate Note and mortgages).

CATEGORIES OF RECORDS IN THE SYSTEM:

Mortgagor's name, Spouse name, social security number, loan number, date of birth, property address, home telephone, personal email address, telephone number, FHA case number, and income financial data.

AUTHORITY FOR MAINTENANCE OF THE SYSTEM:

Sec. 204, National Housing Act, 12 U.S.C. 1710(a) in general.

PURPOSES:

The information is used to perform a wide range of FHA Insured and Secretary-held first, second and subordinate note and mortgage loan servicing functions. The SMART System is a comprehensive loan servicing system that processes the mortgage transactions for both forward and reverse mortgages, including interest, appreciation, amortization and other agreed calculations for the Secretary-Owned Title II Portfolio.

ROUTINE USES OF RECORDS MAINTAINED IN THE SYSTEM, INCLUDING CATEGORIES OF USERS AND THE PURPOSES OF SUCH USES:

In addition to those disclosures generally permitted under 5 U.S.C. 552a(b) of the Privacy Act, other routine uses are as follows:

(a) To the U.S. Treasury—for disbursements and adjustments; and

(b) To the Internal Revenue Service—for reporting payments for mortgage interest, for reporting of discharge indebtedness and real estate taxes.

(c) To CAIVRS—Records may be manually keyed into CAIVRS which is a HUD-sponsored database that makes a federal debtor's delinquency and claim information available to federal lending and assistance agencies and private lenders who issue federally insured or guaranteed loans for the purpose of evaluating a loan applicant's creditworthiness.

POLICIES AND PRACTICES FOR STORING, RETRIEVING, ACCESSING, RETAINING, AND DISPOSING OF RECORDS IN THE SYSTEM:

STORAGE:

Electronic files are stored on servers and back up files are stored on tapes. Servers are stored in a secured server room and at an offsite secured facility for disaster contingency.

RETRIEVABILITY:

Information can only be retrieved by Mortgagor's name, SSN, FHA Case Number, and home address. Only individuals with rights to the full/limited access can view this type of information.

SAFEGUARDS:

The original collateral documents (hard copy) are stored at the Contractors office site for all open loans and the closed documents are stored at a secured offsite document storage facility. All hard copy files are stored within a secured room within the Contractor's secured office suite when not in use. Background screening, limited authorizations and access, with access limited to authorized personnel and technical restraints employed with regard to accessing the records; access to automated systems by authorized users by passwords.

RETENTION AND DISPOSAL:

Are in accordance with HUD Records Disposition Schedule 2225.6, Appendix 20.

SYSTEM MANAGER(S) AND ADDRESS:

Sharon Lundstrom, Director, Housing, Office of Single Family Asset Management, Servicing & Loss Mitigation Division (a/k/a National Servicing Center), Tulsa, Oklahoma, Department of Housing and Urban Development, National Servicing Center, Tulsa, Oklahoma, Telephone Number (405) 609-8443.

NOTIFICATION PROCEDURE:

For information assistance, or inquiry about existence of records, contact Donna Robinson-Staton, Departmental Privacy Act Officer, Department of Housing and Urban Development, 451 Seventh Street, SW., Room 2256, Washington, DC 20410, Telephone Number (202) 402-8073.

RECORD ACCESS PROCEDURES:

The Department's rules for providing access to records to the individual concerned appear in 24 CFR part 16. If additional information or assistance is required, contact the Departmental Privacy Act Officer, Department of Housing and Urban Development, 451 Seventh Street, SW., Room 2256, Washington, DC 20410.

CONTESTING RECORD PROCEDURES:

The procedures for requesting amendment or correction of records appear in 24 CFR part 16. If additional information is needed, contact:

(i) In relation to contesting contents of records, the Departmental Privacy Act Officer at HUD, 451 Seventh Street, SW., Room 2256, Washington, DC 20410; and

(ii) In relation to appeals of initial denials, HUD, Departmental Privacy Appeals Officer, Office of General Counsel, 451 Seventh Street, SW., Washington, DC 20410.

RECORD SOURCE CATEGORIES:

The original information was transferred from the A43C System and an access database program; records were also established using the legal instruments (i.e., mortgage, deed, subordinate mortgage, etc.) received from the mortgagees; and loan balances were taken from F12 (IACS). New loan data is currently loaded via upload of data through a FTR from CHUMS(F17) and IACS(F12), and the legal instruments.

EXEMPTIONS FROM CERTAIN PROVISIONS OF THE ACT:

None.

[FR Doc. 2010-14710 Filed 6-17-10; 8:45 am]

BILLING CODE 4210-67-P